DEPARTMENT OF AGRICULTURE

Animal and Plant Health Inspection Service

7 CFR Parts 319 and 340

[Docket No. APHIS-2008-0011]

RIN 0579-AD75

Restructuring of Regulations on the Importation of Plants for Planting

AGENCY: Animal and Plant Health Inspection Service, USDA.

ACTION: Proposed rule; reopening of comment period.

SUMMARY: We are reopening the comment period for our proposed rule that would restructure the regulations governing the importation of plants for planting. We are requesting comments on our proposed framework for integrated pest risk management measures for plants for planting. We are especially interested in: The differences commenters perceive between International Standard for Phytosanitary Measures No. 36 and the North American Plant Protection Organization's Regional Standard for Phytosanitary Measures No. 24, and reasons to prefer one over the other as a basis for such measures; and how to address the risk posed when plant brokers purchase and move plants for planting after they leave their place of production and before they are exported to the United States. This action will allow interested persons additional time to prepare and submit comments on these topics.

DATES: The comment period for the proposed rule published April 25, 2013 (78 FR 24634) is reopened. We will consider all comments that we receive on or before January 30, 2014.

ADDRESSES: You may submit comments by either of the following methods:

• Federal eRulemaking Portal: Go to http://www.regulations.gov/#!documentDetail;D=APHIS-2008-0011-0001.

• Postal Mail/Commercial Delivery: Send your comment to Docket No. APHIS-2008-0011, Regulatory Analysis and Development, PPD, APHIS, Station 3A-03.8, 4700 River Road Unit 118, Riverdale, MD 20737-1238.

Supporting documents and any comments we receive on this docket may be viewed at http://www.regulations.gov/#!docketDetail;D=APHIS-2008-0011 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Ms. Heather Coady, Regulatory Policy Specialist, Plants for Planting Policy, PPQ, APHIS, 4700 River Road Unit 133, Riverdale, MD 20737; (301) 851-2076.

SUPPLEMENTARY INFORMATION:

On April 25, 2013, we published in the Federal Register (78 FR 24634-24663, Docket No. APHIS-2008-0011) a proposal that would restructure the regulations governing the importation of plants for planting in 7 CFR part 319.

Comments on the proposed rule were required to be received on or before June 24, 2013. We reopened and extended the deadline for comments until September 10, 2013, in a document published in the Federal Register on July 12, 2013 (78 FR 41866-41867, Docket No. APHIS-2008-0011).

Among other changes, we proposed to establish a framework for the development of integrated pest risk management measures in the regulations. We did not propose to require any specific pest risk management measures; rather, we intended the proposed regulatory text to serve as a framework for their eventual development. We based the provisions for the integrated pest risk management measures on the North American Plant Protection Organization's Regional Standard for Phytosanitary Measures (RSPM) No. 24, which addresses trade in plants for planting. As we stated in the proposed rule, our framework for integrated pest risk management measures is also consistent with the International Plant Protection Convention's International Standard for Phytosanitary Measures (ISPM) No. 36, which addresses the same topic.

One element of RSPM No. 24 that we included in the proposed framework was a requirement that persons trading in plants for planting intended for export without growing the plants (whom we referred to in the proposal as plant brokers) be approved by the national plant protection organization of the exporting country. In addition, we proposed to require plant brokers to ensure the traceability of export consignments to an approved place of production or production site, and to maintain the phytosanitary status of the plants in a manner equivalent to an approved place of production from purchase, storage, and transportation to the export destination. (The “phytosanitary status” refers to their freedom from exposure to the quarantine pests addressed by the integrated pest risk management measures.)

We received several comments on our decision to base the proposed framework for integrated pest risk management measures on RSPM No. 24, rather than ISPM No. 36. Most of the commenters preferred that we base our measures on ISPM No. 36. Some commenters on the proposed rule stated that the two standards differed significantly and that the framework we proposed was not consistent with ISPM No. 36. We also received several comments on our proposed requirement for approval of plant brokers, with some commenters indicating that such a requirement would be unworkable and that there could be other means for ensuring that plants for planting that are intended for export retain their phytosanitary status after leaving the place of production. We are considering whether to revise the proposed framework to base it on ISPM No. 36 and what other means might be available to ensure that the phytosanitary status of plants for planting is maintained after they leave an approved place of production.

We are reopening the comment period on Docket No. APHIS-2008-0011 for an additional 30 days. This action will allow interested persons additional time to prepare and submit comments. We are particularly interested in detailed comments on the issues discussed above; specific comments will help us to evaluate potential changes to the proposed rule. We will also consider all comments received between September 10, 2013, and the date of this notice.

Authority: 7 U.S.C. 450, 7701-7772, and 7781-7786; 21 U.S.C. 136 and 136a; 7 CFR 2.22, 2.80, and 371.3.

Done in Washington, DC, this 20th day of December 2013.
Kevin Shea,
Administrator, Animal and Plant Health Inspection Service.

[FR Doc. 2013-31146 Filed 12-30-13; 8:45 am]

BILLING CODE 3410-34-P